DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 7, 2002.

Interested persons are invite to submit written comments regarding the subject matter of the investigation to the Director, Division of Trade Adjustment Assistance, at the address shown below, not later than October 7, 2002.

The petitions filed in this case are available for inspection at the Office of the Director, Division of Trade Adjustment Assistance, Employment and Training Administration, U.S. Department of Labor, Room C-5311, 200 Constitution Avenue, NW., Washington, DC 20210

Signed at Washington, DC, this 26th day of August, 2002.
Edward A. Tomchick,
Director, Division of Trade Adjustment Assistance.

Appendix
[Petitions instituted on 08/26/2002]
TA-W | Subject firm (petitioners) | Location | Date of petition | Product(s)
42,003 | Olson Technologies (USWA) | Allentown, PA | 08/19/2002 | Valves.
42,004 | IBM Corp. (Wkrs) | Essex Junction, VT | 08/14/2002 | Semi-conductors.
42,005 | Sanmina-SCI (Co.) | Derry, NH | 08/07/2002 | Printed circuit boards.
42,006 | Miami Trim Warehouse (Co.) | Medley, FL | 08/19/2002 | Packs and distributes zippers.
42,007 | Milwaukee Valve (IAMAW) | Milwaukee, WI | 05/08/2002 | Valves.
42,008 | Kraft Foods (Co.) | Holland, MI | 01/18/2002 | Lifesavers hard candies and mints.
42,009 | StorageTek (Co.) | Louisville, CO | 07/31/2002 | Field replacement units.
42,010 | Montgomery Co. (The) (Co.) | Opelika, AL | 08/06/2002 | Cotton bales.
42,011 | London Fog (UNITE) | Eldersburg, MD | 08/09/2002 | Raincoats, jackets and top coats.
42,012 | ACS, Inc. (Wkrs) | Phoenix, AZ | 08/08/2002 | Computer information services for IBM.
42,013 | Baker Enterprises (Wkrs) | Alpena, MI | 08/07/2002 | Concrete block machinery and components.
42,014 | S. Goldberg and Co. (Co.) | Hackensack, NJ | 08/13/2002 | House slippers.
42,015 | Rhodia, Inc. (IFCW) | St. Louis, MO | 08/19/2002 | Methyl salicylate and aspirin.
42,016 | National Torch (IUE) | Pittsburgh, PA | 07/29/2002 | Torch tips for welding industry.
42,017 | Motorola—Tempe Final Mfg (Wkrs) | Tempe, AZ | 08/06/2002 | Semiconductors for cell phones.
42,018 | Panavision (Wkrs) | Chicago, IL | 06/28/2002 | Camera lenses and lighting equipment.
42,019 | Encon Eye Protection (Wkrs) | Coudersport, PA | 08/08/2002 | Safety glasses.
42,020 | Maurer Enterprises (Wkrs) | Grants Pass, OR | 08/06/2002 | Wooden stakes and poles.
42,021 | Bronxwood Dye (UNITE) | Bronx, NY | 08/07/2002 | Dye and finishing products.
42,022 | Molded Container (Wkrs) | Portland, OR | 08/08/2002 | Plastic packaging for food.
42,023 | Saturn Electronics (Wkrs) | Auburn Hills, MI | 08/07/2002 | Electronic boards and modules.
42,024 | McInnes Steel (UNITE) | Corry, PA | 07/23/2002 | Open die forgings.
42,025 | Sappi Fine Paper (Wkrs) | Cloquet, MN | 08/17/2002 | Highline coated paper.
42,026 | Timex Corporation (Wkrs) | Middlebury, CT | 08/10/2002 | Watches.
42,027 | NCS Learn (Wkrs) | East Lansing, MI | 08/07/2002 | Educational software.
42,028 | Loreex Corporation (Wkrs) | Guilderland, NY | 08/08/2002 | Woven polyethylene textile products.
42,029 | Wyman Gordon Forgings (IAMAW) | Houston, TX | 08/14/2002 | Aircraft engine components.
42,030 | Becton Dickinson (Co.) | Hancock, NY | 08/12/2002 | Surgical blades.
42,031 | Celestica Corp. (IBEW) | Oklahoma City, OK | 08/12/2002 | Circuit boards for telecom equipment.
42,032 | Millennium Plastics (Co.) | El Paso, TX | 08/14/2002 | Molded plastic parts for vacuum cleaners.
42,033 | Bridgeport Machines (Co.) | Bridgeport, CT | 08/12/2002 | Bridgeport vertical turret mills.
42,034 | E.M. Bair (Wkrs) | Canton, OH | 08/07/2002 | Guide rolls for steel mills.
42,035 | Piece Dye Acquisition (Co.) | Edenton, ND | 08/10/2002 | Textile dying and finishing.

[FR Doc. 02-24503 Filed 9-26-02; 8:45 am]

BILLING CODE 4510-30-M